Proclamation 9604 of May 1, 2017

Law Day, U.S.A., 2017

By the President of the United States of America

A Proclamation

Today, we celebrate Law Day, as we have since President Dwight D. Eisenhower first commemorated it in 1958, and reflect upon our great heritage of liberty, justice, and equality. Our Founders risked their lives, fortunes, and sacred honor in defense of these values. More than 240 years ago, they set pen to paper and declared to the world “that all men are created equal, that they are endowed by their Creator with certain unalienable Rights, that among these are Life, Liberty and the pursuit of Happiness.” The Declaration of Independence thus set our Nation on its revolutionary and transformative path to protecting people's inherent, individual rights and liberties from the tyranny of an elite few who might use the powers of the state to trample upon them.

To protect the values for which they fought, the Framers of our Constitution created a government of limited and separated powers that enables the rule of law to prevail over the whims of government officials. As the great Justice Antonin Scalia frequently observed, every dictatorship has a bill of rights, but paper rights alone will not preserve liberty. It is our Constitution's clear division of the sovereign's power—vesting the power to create laws in the Congress, the power to execute laws in the President, and the power to interpret laws in an independent judiciary—that enables us to remain free and in control of our government.

Recognizing, as President Ronald Reagan did, that “freedom is never more than one generation away from extinction,” today we pay tribute to the government of laws, and not of men, that forms the foundation of our freedom. Therefore, on this Law Day, we rededicate ourselves to the rule of law, to the separation of powers, and, in the words of President Abraham Lincoln's Gettysburg Address, to the preservation of “government of the people, by the people, for the people.”

NOW, THEREFORE, I, DONALD J. TRUMP, President of the United States of America, in accordance with Public Law 87-20, as amended, do hereby proclaim May 1, 2017, as Law Day, U.S.A. I urge all Americans, including government officials, to observe this day by reflecting upon the importance of the rule of law in our Nation and displaying the flag of the United States in support of this national observance.

IN WITNESS WHEREOF, I have hereunto set my hand this first day of May, in the year of our Lord two thousand seventeen, and of the Independence of the United States of America the two hundred and forty-first.

[FR Doc. 2017-09211

Filed 5-3-17; 11:15 am]

Billing code 3295-F7-P